ENVIRONMENTAL PROTECTION AGENCY

[FRL-8739-8]

Science Advisory Board Staff Office; Clean Air Scientific Advisory Committee (CASAC); Notification of a Public Advisory Committee Teleconference of the CASAC Oxides of Nitrogen Primary NAAQS Review Panel

AGENCY: Environmental Protection Agency (EPA).

ACTION: Notice.

SUMMARY: The Environmental Protection Agency (EPA) Science Advisory Board (SAB) Staff Office announces a public teleconference of the Clean Air Scientific Advisory Committee's (CASAC) Oxides of Nitrogen Primary NAAQS Review Panel (Panel) to review EPA's completed Risk and Exposure Assessment to Support the Review of the NO2 Primary National Ambient Air Quality Standard and to provide advice for EPA to consider as it develops its Advance Notice for Proposed Rulemaking for nitrogen dioxide.

DATES: The teleconference will be held on December 5, 2008 from 1 p.m. to 3 p.m. (Eastern Daylight Time).

Location: The public teleconference will be conducted by telephone only.

FOR FURTHER INFORMATION CONTACT: Members of the public who wish to obtain the call-in number and access code to participate in the teleconference may contact Dr. Angela Nugent, Designated Federal Officer (DFO), EPA Science Advisory Board (1400F), U.S. Environmental Protection Agency, 1200 Pennsylvania Avenue, NW., Washington, DC 20460; via telephone/voice mail (202) 343-9981; fax (202) 233-0643; or e-mail at nugent.angela@epa.gov. General information concerning the CASAC and the CASAC documents cited below can be found on the EPA Web site at http://www.epa.gov/casac.

SUPPLEMENTARY INFORMATION: Background: The Clean Air Scientific Advisory Committee (CASAC) was established under section 109(d)(2) of the Clean Air Act (CAA or Act) (42 U.S.C. 7409) as an independent scientific advisory committee. CASAC provides advice, information, and recommendations on the scientific and technical aspects of air quality criteria and national ambient air quality standards (NAAQS) under sections 108 and 109 of the Act. The CASAC is a Federal advisory committee chartered under the Federal Advisory Committee Act (FACA), as amended, 5 U.S.C., App. The Panel will comply with the provisions of FACA and all appropriate SAB Staff Office procedural policies.

Section 109(d)(1) of the CAA requires that the Agency periodically review and revise, as appropriate, the air quality criteria and the NAAQS for the six “criteria” air pollutants, including oxides of nitrogen (NOX). EPA is in the process of reviewing the primary NAAQS for nitrogen dioxide (NO2), an indicator for NOX. Primary standards set limits to protect public health, including the health of “sensitive” populations such as asthmatics, children, and the elderly.

As part of its scientific advice to support EPA's review of the primary NAAQS for nitrogen dioxide (NO2), CASAC met on September 9-10, 2008 to conduct a peer review of the Risk and Exposure Assessment to Support the Review of the NO2 Primary National Ambient Air Quality Standard: Second Draft (73 FR 43444-43445). At that time, EPA had not completed chapter eight of the draft assessment entitled “Exposure and Health Risk Characterization.” CASAC also held a public teleconference on October 22, 2008 to conduct a peer review of the draft chapter 8 (73 FR 55074-55075).

The public may access completed CASAC advisory reports related to the primary NO2 NAAQS, including the CASAC reports on the Risk and Exposure Assessment to Support the Review of the NO2 Primary National Ambient Air Quality Standard: Second Draft, on the EPA Web site at http://yosemite.epa.gov/sab/sabproduct.nsf/WebReportsbyTopicCASAC!OpenView.

EPA now plans that the final document will include an additional chapter (chapter 10) that considers the scientific evidence and exposure-risk-based information specifically as it relates to the current and potential alternative standards. At the December 5, 2008 teleconference, the CASAC will review EPA's completed Risk and Exposure Assessment and provide advice for EPA to consider as it develops its Advance Notice for Proposed Rulemaking for nitrogen dioxide.

Technical Contact: Any questions concerning Risk and Exposure Assessment to Support the Review of the NO2 Primary National Ambient Air Quality Standard should be directed to Dr. Scott Jenkins, OAR (by telephone (919) 541-1167 or e-mail jenkins.scott@epa.gov.

Availability of Meeting Materials: EPA's Risk and Exposure Assessment to Support the Review of the NO2 Primary National Ambient Air Quality Standard will be accessible via the Agency's Office of Air Quality Planning and Standards Web site at http://www.epa.gov/ttn/naaqs/standards/nox/s_nox_cr_rea.html on or about November 21, 2008. Agendas and materials supporting the teleconference will be placed on the EPA Web site before the meeting on the CASAC meeting page, accessible through the calendar link on the blue navigation bar at http://www.epa.gov/casac.

Procedures for Providing Public Input: Interested members of the public may submit relevant written or oral information for the CASAC Panel to consider during the advisory process. Oral Statements: Interested members of the public may submit relevant written or oral information for the SAB Panel to consider during the advisory process. Oral Statements: In general, individuals or groups requesting an oral presentation at a public teleconference will be limited to three minutes per speaker, with no more than a total of 30 minutes for all speakers. Interested parties should contact Dr. Angela Nugent, DFO, in writing (preferably via e-mail) by December 1, 2008 at the contact information noted above to be placed on the public speaker list for this meeting. Written Statements: Written statements for the public meeting should be received by Dr. Angela Nugent at the contact information above by December 1, 2008, so that the information may be made available to the Panel for their consideration prior to the teleconference. Written statements should be supplied to the DFO in the following formats: one hard copy with original signature (optional), and one electronic copy via e-mail (acceptable file format: Adobe Acrobat PDF, MS Word, MS PowerPoint, or Rich Text files in IBM-PC/Windows 98/2000/XP format).

Accessibility: For information on access or services for individuals with disabilities, please contact Dr. Nugent at the phone number or e-mail address noted above, preferably at least ten days prior to the teleconference, to give EPA as much time as possible to process your request.

Dated: November 5, 2008.
Anthony F. Maciorowski,
Deputy Director, EPA Science Advisory Board Staff Office.

[FR Doc. E8-26846 Filed 11-10-08; 8:45 am]

BILLING CODE 6560-50-P